ENVIRONMENTAL PROTECTION AGENCY

[FRL-6871-7]

Draft Guidance Document for Nutrient Trading in the Chesapeake Bay

AGENCY: Environmental Protection Agency.

ACTION: Notice.

SUMMARY: The Chesapeake Bay Program has developed a Draft Guidance Document for Nutrient Trading in the Chesapeake Bay. The document presents fundamental principles and guidelines for nutrient trading in the Chesapeake Bay watershed. This document is available to the public for review from September 8, 2000 through October 27, 2000.

The document is available starting September 8, 2000 at the following web-site: http://www.chesapeakbay.net/trading.html. You may request a paper copy by calling Julie Trask at 410-267-5753 or by e-mail at trask.julie@epa.gov. All comments must be sent to the appropriate state contact listed below by Oct. 27, 2000:

DC: Ann Goode, DC Dept. Health, 202-535-2965, anngoode@hotmail.com

PA: Stuart Gansell, PA Dept. Environmental Protection, 717-783-7420, morris.silver@dep.state.pa.us

MD: John Rhoderick, MD Dept. of Agriculture, 410-841-5876, rhoderjc@mda.state.md.us

VA: John Kennedy, VA Department of Environmental Quality, 804-698-4312, jmkennedy@deq.state.va.us

William Matuszeski,
Director, Chesapeake Bay Program Office.

[FR Doc. 00-24044 Filed 9-18-00; 8:45 am]

BILLING CODE 6560-50-M